NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) #1173.

Date and Time: February 17-18, 2022; 1:00 p.m.-5:30 p.m.

Place: National Science Foundation, 2415 Eisenhower Avenue, Alexandria, VA 22314 (Virtual).

Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

February 17, 2022

• Welcome and Introductions/Meeting Overview

• NSF Executive Liaison Report

• Presentation: CEOSE Subcommittee's Interim Report on the Future of EPSCoR

• Break

• Presentation: Geography of Innovation

• Discussion: Data Questions for the Intersectionality Hackathon

• Discussion: CEOSE Liaison Reports

February 18, 2022

• Opening Remarks

• Working Lunch Session: BP Data Hackathon

• CEOSE Discussion: Topics/Ideas to Share with Leadership

• Break

• Discussion with NSF Leadership

• STEM Identify and Intersectionality: Part II

• Announcements and Final Remarks

Dated: November 22, 2021.
Crystal Robinson,
Committee Management Officer.

[FR Doc. 2021-25775 Filed 11-24-21; 8:45 am]

BILLING CODE 7555-01-P